DEPARTMENT OF THE INTERIOR

Fish and Wildlife Service

[FWS-R8-MB-2015-N062; FF08M00000-FXMB12310800000-145]

Draft Environmental Impact Statement and Proposed Pacific Gas & Electric Company Eagle Conservation Plan

AGENCY: Fish and Wildlife Service, Interior.

ACTION: Notice of intent to prepare an environmental impact statement; notice of scoping meeting and request for comments.

SUMMARY: We, the U.S. Fish and Wildlife Service (Service), intend to prepare a draft environmental impact statement (EIS) for the Pacific Gas and Electric Company's (PG&E) (Applicant) proposed Eagle Conservation Plan (ECP) and request for a 30-year programmatic eagle take permit for take of bald eagles and golden eagles under the Bald and Golden Eagle Protection Act (Eagle Act). The ECP, which serves as the foundation of the permit application, is a comprehensive plan that addresses take of the eagles associated with PG&E's existing infrastructure and operations and maintenance (O&M) activities throughout the Plan Area, which encompasses about two-thirds of the State of California. We provide this notice to (1) describe the proposed action; (2) advise other Federal and state agencies, potentially affected tribal interests, and the public of our intent to prepare an EIS; (3) announce the initiation of a 60-day public scoping period; and (4) obtain suggestions and information on the scope of issues and possible alternatives to be included in the EIS. We also announce plans for a public scoping meeting and the opening of a public comment period. We request data, comments, new information, or suggestions from the public, governmental agencies, the scientific community, tribes, industry, or any other interested party.

DATES: To ensure consideration, please send your written comments by June 30, 2015. A public scoping meeting will be held on May 21, 2015, at Red Lion Hotel Woodlake Conference Center, 500 Leisure Lane, Sacramento, CA 95815.

ADDRESSES: To request further information or submit written comments, please use one of the following methods, and note that your information request or comment is in reference to the PG&E Eagle Conservation Plan EIS:

• Email: [fw8_eagle_nepa@fws.gov]. Include “PG&E Eagle Conservation Plan EIS” in the subject line of the message.

• U.S. Mail: Heather Beeler, Migratory Bird Program, U.S. Fish and Wildlife Service, Pacific Southwest Regional Office, 2800 Cottage Way, W-2605, Sacramento, CA 95825.

• Fax: Heather Beeler, Migratory Bird Program, (916) 414-6486; Attn: PG&E Eagle Conservation Plan EIS Scoping.

FOR FURTHER INFORMATION CONTACT: Heather Beeler, Migratory Bird Program, at the address shown above or at (916) 414-6651 (telephone). If you use a telecommunications device for the deaf, please call the Federal Information Relay Service at (800) 877-8339.

SUPPLEMENTARY INFORMATION: We, the U.S. Fish and Wildlife Service (Service), intend to prepare a draft environmental impact statement (EIS) for the Pacific Gas and Electric Company's (PG&E) (Applicant) proposed Eagle Conservation Plan (ECP) and request for a 30-year programmatic eagle take permit under the Bald and Golden Eagle Protection Act (Eagle Act). The ECP serves as the foundation of the permit application. The ECP summarizes the applicant's current voluntary approach to address eagle and bird impacts associated with PG&E's existing infrastructure and operations and maintenance (O&M) activities throughout their ECP Plan Area (Plan Area).

The ECP is a comprehensive plan that addresses the take of bald eagles (Haliaeetus leucocephalus) and golden eagles (Aquila chrysaetos) associated with PG&E's existing infrastructure and O&M activities throughout the Plan Area, which encompasses about two-thirds of the State of California. The ECP also provides measures to avoid, minimize, and mitigate for eagle mortality. The draft EIS will evaluate the impacts of several alternatives related to the proposed issuance of a programmatic eagle take permit to PG&E for bald and golden eagles that results from system-wide standard O&M at their infrastructure and facilities.

We provide this notice to (1) describe the proposed action; (2) advise other Federal and state agencies, potentially affected tribal interests, and the public of our intent to prepare an EIS; (3) announce the initiation of a 60-day public scoping period; and (4) obtain suggestions and information on the scope of issues and possible alternatives to be included in the EIS.

We also announce plans for a public scoping meeting and the opening of a public comment period. We request data, comments, new information, or suggestions from the public, governmental agencies, the scientific community, tribes, industry, or any other interested party.

We publish this notice in accordance with the National Environmental Policy Act of 1969, as amended (42 U.S.C. 4321-4347, et seq.; NEPA), and its implementing regulations in the Code of Federal Regulations (CFR) at 40 CFR 1500-1508 as well as Section 668a of the Eagle Act (16 U.S.C. 668a-668d).

Introduction

The Service is considering an application from PG&E, under the Eagle Act, for a 30-year programmatic take permit for bald and golden eagles. PG&E has prepared an ECP, which addresses incidental take of bald and golden eagles from electrocution and collision with above-ground electric transmission and distribution lines (collectively power lines), as well as disturbance of nesting eagles during various operations and maintenance (O&M) activities within the Plan Area. The Plan Area encompasses PG&E's Service Area including all electric and hydroelectric facilities located within the state of California. The ECP analyzes their system's risk to eagles. It also identifies measures to avoid, minimize and mitigate eagle mortality associated with those activities. The Plan Area is within the following California Counties:

Alameda

Alpine

Amador

Butte

Calaveras

Colusa

Contra Costa

Del Norte

El Dorado

Fresno

Glenn

Humboldt

Inyo

Kern

Kings

Lake

Lassen

Los Angeles

Madera

Marin

Mariposa

Mendocino

Merced

Modoc

Mono

Monterey

Napa

Nevada

Placer

Plumas

Sacramento

San Benito

San Bernardino

San Francisco

San Joaquin

San Luis Obispo

San Mateo

Santa Barbara

Santa Clara

Santa Cruz

Shasta

Sierra

Siskiyou

Solano

Sonoma

Stanislaus

Sutter

Tehama

Trinity

Tulare

Tuolumne

Ventura

Yolo

Yuba

Background

Eagles are protected under the Eagle Act, which prohibits take and disturbance of individuals and nests. Take under the Eagle Act includes any actions that pursue, shoot, shoot at, poison, wound, kill, capture, trap, collect, destroy, molest, and disturb eagles. Disturb is further defined in 50 CFR 22.3 as “to agitate or bother a bald or golden eagle to a degree that causes, or is likely to cause, based on the best scientific information available (1) injury to an eagle, (2) a decrease in its productivity, by substantially interfering with normal breeding, feeding, or sheltering behavior, or (3) nest abandonment, by substantially interfering with normal breeding, feeding, or sheltering behavior.”

Prior to 2009, permits for purposeful take of birds or body parts were limited to scientific (50 CFR 22.21), religious (50 CFR 22.22), or falconry (50 CFR 22.24) pursuits; for eagles causing serious injury to livestock or other wildlife (50 CFR 22.23); and for golden eagle nests that interfere with resource development or recovery operations (50 CFR 22.21-25). In 2009, we issued the Final Rule for Eagle Permits; Take Necessary to Protect Interests in Particular Localities (2009 Final Rule) on new permit regulations that allow take “for the protection of . . . other interests in any particular locality” and where the take is “associated with and not the purpose of an otherwise lawful activity . . .” (September 11, 2009; 74 FR 46836-46879). The 2009 Final Rule authorizes programmatic take (take that is recurring and not in a specific, identifiable timeframe and/or location) of eagles only if avoidance measures have been implemented to the maximum extent achievable. PG&E's activities are programmatic and existed prior to the 2009 Final Rule. Considerations for issuing take permits include the health of the local and regional eagle populations, availability of suitable nesting and foraging habitat for any displaced eagles, and whether the take and associated mitigation provide a net benefit to eagles (74 FR 46836-46879). The programmatic take permit under the 2009 Final Rule was valid up to 5 years. In 2012, we proposed to extend the maximum term for programmatic take permits from 5 to 30 years (April 13, 2012; 77 FR 22267-22278), and in 2013, we issued a Final Rule to extend the maximum term for programmatic eagle permits to 30 years, subject to a recurring 5-year review process throughout the life of the permit (December 9, 2013; 78 FR 73704-78725).

PG&E's power lines have resulted in eagle mortality due to electrocution and collision. Furthermore, infrastructure associated with electric and hydroelectric energy generation requires long-term O&M, pipeline, and utility line modernization and replacement to produce and deliver reliable and safe energy to PG&E customers. Some O&M activities occur in eagle nesting habitat where there is a potential to disturb nesting eagles.

Scope of EIS

PG&E's ECP serves as the foundation of the permit application. As such, all alternatives considered in the EIS should conform to the permit issuance criteria for programmatic eagle take permits under the Eagle Act as required in 50 CFR 22.26(f)(1-6).

The draft EIS will identify and analyze direct, indirect, and cumulative impacts of the proposed action and alternatives to several resource areas, including biological resources, public utilities, air quality, noise, water resources, cultural resources, socioeconomics, and climate change. We will also consider evaluation of additional resource areas if issues of concern specific to the proposed action are identified during the public scoping process. The purpose of the public scoping process for the EIS is to determine relevant issues that will influence the scope of the environmental analysis, including potential alternatives, and the extent to which those issues and impacts will be analyzed in the EIS. We will evaluate a minimum of three alternatives.

Applicant's Proposal

PG&E has requested a programmatic eagle take permit for incidental take of bald and golden eagles associated with O&M activities in the Plan Area, as described in the ECP, for a term of 30 years. Specific activities covered under the ECP would include otherwise lawful activities that have the potential to kill eagles or disturb them to the extent that nests are abandoned or eagle productivity is decreased, as well as avoidance and minimization measures to reduce these impacts. The ECP describes:

(1) Eagle collision with or electrocution by PG&E's existing distribution and transmission lines and conductors within the Plan Area;

(2) Operation and maintenance of PG&E's electrical system, including inspection and patrols (aerial and ground), routine maintenance and repair, vegetation management (including tree pruning and removal with the right of way), and replacement or upgrades of existing power lines and infrastructure. This activity would apply to all power lines in the Plan Area (141,200 miles of distribution lines and 18,600 miles of transmission lines) and related infrastructure;

(3) Operation and maintenance of PG&E's hydroelectric system, including the associated electric system, recreation facility maintenance, log boom/buoy/safety marker maintenance, intake tunnel clearing, and repair of weirs and gages. This activity would apply to all facilities in the Plan Area, including 68 existing powerhouses, a pumped storage facility, and nearly 100 reservoirs;

(4) Continued implementation of migratory bird and eagle take-reduction measures, including, but not limited to:

(a) Adoption of avian-safe construction design standards;

(b) Proactive and reactive bird-safe power pole retrofits;

(c) Bird nest protection best management practices during vegetation management activities and other routine or project work;

(d) Bird flight diverter effectiveness studies;

(e) Targeted management at hydroelectric facilities; and

(f) Pre-construction nesting bird surveys when required for project work.

(5) Monitoring to validate the estimated amount of disturbance take and the number of fatalities associated with PG&E's existing infrastructure and to evaluate the effectiveness of the conservation measures at reducing eagle take. Monitoring efforts would generally include:

(a) Monitoring of eagle nests located throughout PG&E's hydroelectric system, as well as those discovered during inspections, patrols, and vegetation management activities; and

(b) Monitoring eagle fatalities during inspections, patrols, and vegetation management actions.

Public Comments

We request data, comments, new information, or suggestions from the public, other governmental agencies, the scientific community, Tribes, industry, or any other interested party on this notice. We will consider these comments in developing the draft EIS.

Public Availability of Comments

You may submit your comments and materials by one of the methods listed above in ADDRESSES. Before including your address, phone number, or other personal identifying information in your comment, you should be aware that your entire comment—including your personal identifying information—might be made publicly available at any time. While you can ask us in your comment to withhold your personal identifying information from public review, we cannot guarantee that we will be able to do so.

Scoping Meetings

See DATES for the date(s) and time(s) of our public meeting(s). The primary purpose of these meetings and public comment period is to provide the public with a general understanding of the background of the proposed action and to solicit suggestions and information on the scope of issues and alternatives we should consider when drafting the EIS. Oral and written comments will be accepted at the meetings. An interpreter and/or court reporter will be present when deemed necessary. Comments can also be submitted by methods listed in the ADDRESSES section. Once the draft EIS and proposed ECP are complete and made available for review, there will be additional opportunity for public comment on the content of these documents.

Persons needing reasonable accommodations in order to attend and participate in the public meetings should contact the Pacific Southwest Region's Migratory Bird Office using one of the methods listed above in ADDRESSES as soon as possible. In order to allow sufficient time to process requests, please make contact no later than one week before the public meeting. Information regarding this proposed action is available in alternative formats upon request.

Authority

We provide this notice under section 668a of the Eagle Act (16 U.S.C. 668-668c) and NEPA regulations (40 CFR 1501.7, 40 CFR 1506.6, and 40 CFR 1508.22).

Dated: April 23, 2015.
Alexandra Pitts,
Deputy Regional Director, Pacific Southwest Region, Sacramento, California.

[FR Doc. 2015-10067 Filed 4-30-15; 8:45 am]

BILLING CODE 4310-55-P